DEPARTMENT OF COMMERCE

National Oceanic and Atmospheric Administration

50 CFR Part 648

[Docket No. 160929900-6900-01]

RIN 0648-XE927

Revisions to Framework Adjustment 55 to the Northeast Multispecies Fishery Management Plan

AGENCY: National Marine Fisheries Service (NMFS), National Oceanic and Atmospheric Administration (NOAA), Commerce.

ACTION: Final rule; adjustment to specifications.

SUMMARY: We are reducing the 2016 fishing year Georges Bank haddock catch cap for the herring midwater trawl fishery. The reduction in the 2016 midwater trawl catch cap is necessary to account for an overage that occurred in fishing year 2015. This reduction is formulaic and is required as an accountability measure to help mitigate the 2015 overage.

DATES: Effective November 23, 2016, through April 30, 2017.

FOR FURTHER INFORMATION CONTACT: Liz Sullivan, Fishery Management Specialist, (978) 282-8493.

SUPPLEMENTARY INFORMATION: Framework Adjustment 55 to the Northeast (NE) Multispecies Fishery Management Plan (FMP) (May 2, 2016, 81 FR 26412) set annual catch limits for groundfish stocks for the 2016 fishing year, including allocations for the groundfish fishery and other fisheries with incidental catch of groundfish. The midwater trawl herring fishery is allocated 1 percent of the U.S. acceptable biological catch of Gulf of Maine (GOM) and Georges Bank (GB) haddock. If the herring midwater trawl fishery exceeds its GOM or GB haddock catch cap, we are required to reduce the respective catch cap by the amount of the overage in the following fishing year.

In fishing year 2015, the midwater trawl fishery exceeded its GB haddock catch cap by 8.54 mt. Therefore, this rule reduces the fishing year 2016 GB haddock catch cap by 8.54 mt to account for this overage. Table 1 provides the midwater trawl adjustment for GB haddock that this rule implements.

Table 1—Fishing Year 2016 Midwater Trawl Overage Adjustment (mt)
Stock | 2015 Overage | Initial 2016 midwater trawl fishery catch cap | Adjusted 2016 midwater trawl fishery catch cap
GB haddock | 8.54 | 521 | 512.46

Classification

The NMFS Assistant Administrator has determined that this final rule is consistent with the FMP, other provisions of the Magnuson-Stevens Fishery Conservation and Management Act, and other applicable law.

This action is exempt from the procedures of E.O. 12866 because this action contains no implementing regulations.

Pursuant to 5 U.S.C. 553(b)(3)(B), we find good cause to waive prior public notice and opportunity for public comment on the catch cap adjustment because allowing time for notice and comment is impracticable, unnecessary, and contrary to the public interest. We also find good cause to waive the 30-day delay in effectiveness pursuant to 5 U.S.C. 553(d)(3), so that this final rule may become effective upon publication.

Prior notice and comment are impracticable and contrary to the public interest, because this is a non-discretionary action required by provisions of Framework 46 to the NE Multispecies FMP, which was subject to public comment. The proposed rule to implement Framework 46 requested public comment on these measures, including the specific accountability measure implemented by this rule, with the understanding that a catch cap adjustment would be required if an overage occurred. As a result, the public and industry are expecting this adjustment.

Final 2015 catch data only recently became available in September 2016. This information allows us to determine the amount of an overage, if any, and it was not possible to finalize this information sooner. If this rule is not effective immediately, the midwater trawl fishery will be operating under an incorrect 2016 catch cap for GB haddock. This could increase the likelihood of a subsequent overage and uncertainty on when to trigger an inseason accountability measure, which in turn could cause confusion and negative economic impacts to the midwater trawl fishery. Therefore, it is important to implement the reduced catch limit as soon as possible. For these reasons, we are waiving the public comment period and delay in effectiveness for this rule, pursuant to 5 U.S.C. 553(b)(3)(B) and (d), respectively.

A final regulatory flexibility analysis (FRFA) was previously prepared as part of the regulatory impact review of Framework 55. This minor adjustment does not change the conclusions drawn from that FRFA. The FRFA is contained in the Framework 55 final rule.

Each item in section 604(a)(1) through (5) of the Regulatory Flexibility Act (5 U.S.C. 604(a)(1) through (5)) was addressed in the Classification section of the Framework 55 final rule.

Authority: 16 U.S.C. 1801 et seq.

Dated: November 17, 2016.
Samuel D. Rauch III,
Deputy Assistant Administrator for Regulatory Programs, National Marine Fisheries Service.

[FR Doc. 2016-28175 Filed 11-22-16; 8:45 am]

BILLING CODE 3510-22-P